ENVIRONMENTAL PROTECTION AGENCY

40 CFR Part 51

[FRL-7598-2]

EPA Responses to State and Tribal 8-Hour Ozone Air Quality Designation Recommendations

AGENCY: Environmental Protection Agency (EPA).

ACTION: Notice of availability.

SUMMARY: Notice is hereby given that the EPA has posted its responses to States' and Tribes' 8-hour ozone air quality designation recommendations on the web. If a State or Tribe wishes to submit additional information to EPA regarding the designations, we have requested that they submit that information no later than February 6, 2004.

ADDRESSES: The EPA's responses are available for public inspection at EPA's Web site at: http://www.epa.gov/ozonedesignations and at the Office of Air and Radiation (OAR) Docket Center, Docket Number OAR 2003-0083, respectively. State and Tribal recommendations are also available at the same EPA website and docket locations.

FOR FURTHER INFORMATION CONTACT: Ms. Sharon Reinders, Office of Air Quality Planning and Standards, U.S. Environmental Protection Agency, Mail Code C539-02, Research Triangle Park, NC 27711, phone number (919) 541-5284 or by e-mail at: reinders.sharon@epa.gov or Ms. Annie Nikbakht, Office of Air Quality Planning and Standards, U.S. Environmental Protection Agency, Mail Code C539-02, Research Triangle Park, NC 27711, phone number (919) 541-5246 or by e-mail at: nikbakht.annie@epa.gov. Mr. Barry Gilbert can be contacted for air quality technical issues: Office of Air Quality Planning and Standards, U.S. Environmental Protection Agency, Mail Code C539-02, Research Triangle Park, NC 27711, phone number (919) 541-5238 or by email at: gibert.barry@epa.gov.

SUPPLEMENTARY INFORMATION:

A. How Can I Get Copies of This Document and Other Related Information?

1. Docket. The EPA has established an official public docket for this action under Docket ID Number OAR 2003-0083. The official public docket consists of the documents specifically referenced in this action, any public comments received, and other information related to this action. Although a part of the official docket, the public docket does not include Confidential Business Information or other information whose disclosure is restricted by statute. The official public docket is the collection of materials that is available for public viewing at the OAR Docket Center, (EPA/DC) EPA West, Room B102, 1301 Constitution Avenue, NW., Washington, DC. The EPA Docket Center Public Reading Room is open from 8:30 a.m. to 4:30 p.m., Monday through Friday, excluding legal holidays. The telephone number for the Public Reading Room is (202) 566-1744, and the telephone number for the OAR Docket is (202) 566-1742.

2. Electronic Access. You may access this Federal Register document electronically through the EPA Internet under the Federal Register listings at http://www.epa.gov/fedrgstrl.

An electronic version of the public docket is available through EPA's electronic public docket and comment system, EPA Dockets. You may use EPA Dockets at http://www.epa.gov/edocket/ to access the index listing of the contents of the official public docket, and to access those documents in the public docket that are available electronically. Once in the system, select “search,” then key in the appropriate docket identification number. The EPA's policy is that copyrighted material will not be placed in EPA's electronic public docket but will be available only in printed, paper form in the official public docket. Although not all docket materials may be available electronically, you may still access any of the publicly available docket materials through the docket facility identified in A.1.

List of Subjects

Air pollution control, Intergovernmental relations, Ozone, Particulate matter, Transportation, Volatile organic compounds.

Authority: 42 U.S.C. 7408, 42 U.S.C. 7410, 42 U.S.C. 7501-7511f; 42 U.S.C. 7601(a)(1).

Dated: December 4, 2003.
Henry C. Thomas,
Acting Director, Office of Air Quality Planning and Standards.

[FR Doc. 03-30582 Filed 12-9-03; 8:45 am]

BILLING CODE 6560-50-P